NUCLEAR REGULATORY COMMISSION

Biweekly Notice; Applications and Amendments to Facility Operating Licenses Involving No Significant Hazards Considerations

I. Background

Pursuant to section 189a. (2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from November 20, 2008 to December 3, 2008. The last biweekly notice was published on December 2, 2008 (73 FR 73351).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available documents related to these actions will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted, with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated on August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer ™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Calvert Cliffs Nuclear Power Plant, Inc., Docket Nos. 50-317 and 50-318, Calvert Cliffs Nuclear Power Plant, Unit Nos. 1 and 2, Calvert County, Maryland

Date of amendments request: October 1, 2008.

Description of amendments request: The proposed amendment would insert a requirement into the operating licenses of the Calvert Cliffs Nuclear Power Plant, Unit Nos. 1 and 2, involving the reporting of specified reactor vessel (RV) inservice inspection (ISI) information and analyses as specified in Federal Register Notice (72 FR 56275), dated October 3, 2007, “Alternative Fracture Toughness Requirements for Protection Against Pressurized Thermal Shock Events.” This amendment is a required part of a code relief request, submitted by the licensee on October 1, 2008, to extend the RV ISI 10-year inspection interval for RV weld examinations.

Basis for proposed no significant hazards consideration determination: As required by 10 CFR 50.91(a), the licensee has provided its analysis of the issue of no significant hazards consideration, which is presented below:

1. Does the proposed amendment involve a significant increase in the probability or consequences of an accident previously evaluated?

The proposed change, which adds a requirement within Calvert Cliffs licenses to provide required information and analyses as a supporting condition for extending the allowed reactor vessel ISI interval, only involves the commitment to provide data obtained from the reactor vessel ISI. This proposed change involves only the submittal of generated data that will be used to verify the reactor vessel has more than sufficient margin to prevent any pressurized thermal shock event from occurring. This proposed change does not involve any change to the design basis of the plant or of any structure, system, or component. Therefore, the proposed change does not involve a significant increase in the probability or consequence of an accident previously evaluated.

2. Does the proposed amendment create the possibility of a new or different kind of accident from any accident previously evaluated?

The proposed change, which adds a requirement within Calvert Cliffs licenses to provide required information and analyses as a supporting condition for extending the reactor vessel ISI interval, only involves the commitment to provide data and analyses obtained from the reactor vessel ISI. As such this proposed change does not result in physical alteration to the plant configuration or make any change to plant operation. As a result no new accident scenarios, failure mechanisms, or single failures are introduced. Therefore, the proposed change does not create the possibility of a new or different kind of accident from any accident previously evaluated.

3. Does the proposed amendment involve a significant reduction in a margin of safety?

The proposed change, which adds a requirement within Calvert Cliffs licenses, to provide required information and analyses as a supporting condition for extending the allowed reactor vessel ISI interval, only involves the commitment to provide data and analyses obtained from the reactor vessel ISI. The submitted data may be used to verify the condition of the reactor vessel meets all required standards to ensure sufficient safety margin is maintained against the occurrence of a pressurized thermal shock event during the expanded time interval between reactor vessel ISIs. The proposed change is administrative in nature and is not related to any margin [of] safety. Therefore, the proposed change does not involve a significant reduction in a margin of safety.

The NRC staff has reviewed the licensee's analysis and, based on this review, it appears that the three standards of 10 CFR 50.92(c) are satisfied. Therefore, the NRC staff proposes to determine that the amendments request involves no significant hazards consideration.

Attorney for licensee: Carey Fleming, Sr. Counsel—Nuclear Generation, Constellation Generation Group, LLC, 750 East Pratt Street, 17th floor, Baltimore, MD 21202.

NRC Branch Chief: Mark G. Kowal.

Entergy Operations Inc., Docket No. 50-382, Waterford Steam Electric Station, Unit 3, St. Charles Parish, Louisiana

Date of amendment request: September 18, 2008.

Description of amendment request: The proposed amendment would modify Technical Specification (TS) requirements for inoperable snubbers by relocating the current TS 3.7.8, “Snubbers,” to the Technical Requirements Manual (TRM) and adding Limiting Condition for Operation (LCO) 3.0.8. The proposed amendment would also make conforming changes to TS LCO 3.0.1. In conjunction with the proposed changes, the TS Bases for LCO 3.0.8 will be added, consistent with Bases Control Program, as described in Section 6.16 of the TS.

The NRC staff issued a notice of opportunity for comment in the Federal Register on November 24, 2004 (69 FR 68412), on possible license amendments adopting TSTF-372 using the NRC's CLIIP for amending licensee's TSs, which included a model safety evaluation (SE) and model no significant hazards consideration (NSHC) determination.

The NRC staff subsequently issued a notice of availability of the models for referencing in license amendment applications in the Federal Register on May 4, 2005. (70 FR 23252), which included the resolution of public comments on the model SE. The May 4, 2005, notice of availability referenced the November 4, 2004, notice. The licensee has affirmed the applicability of the following NSHC determination in its application.

Basis for proposed no significant hazards consideration determination: As required by 10 CFR 50.91(a), an analysis of the issue of no significant hazards consideration is presented below:

Criterion 1—The Proposed Change[s] [Do] Not Involve a Significant Increase in the Probability or Consequences of an Accident Previously Evaluated

The proposed change[s] [allow] a delay time for entering a supported system TS when the inoperability is due solely to an inoperable snubber if risk is assessed and managed. The postulated seismic event requiring snubbers is a low-probability occurrence and the overall TS system safety function would still be available for the vast majority of anticipated challenges. Therefore, the probability of an accident previously evaluated is not significantly increased, if at all. The consequences of an accident while relying on allowance provided by proposed LCO 3.0.8 are no different than the consequences of an accident while relying on the TS required actions in effect without the allowance provided by proposed LCO 3.0.8. Therefore, the consequences of an accident previously evaluated are not significantly affected by [these] change[s]. The addition of a requirement to assess and manage the risk introduced by [these] change[s] will further minimize possible concerns. Therefore, [these] change[s] [do] not involve a significant increase in the probability or consequences of an accident previously evaluated.

Criterion 2—The Proposed Change[s] [Do] Not Create the Possibility of a New or Different Kind of Accident From Any Previously Evaluated

The proposed change[s] [do] not involve a physical alteration of the plant (no new or different type of equipment will be installed). Allowing delay times for entering supported system TS when inoperability is due solely to inoperable snubbers, if risk is assessed and managed, will not introduce new failure modes or effects and will not, in the absence of other unrelated failures, lead to an accident whose consequences exceed the consequences of accidents previously evaluated. The addition of a requirement to assess and manage the risk introduced by [these] change[s] will further minimize possible concerns. Thus, [these] change[s] [do] not create the possibility of a new or different kind of accident from an accident previously evaluated.

Criterion 3—The Proposed Change[s] [Do] Not Involve a Significant Reduction in the Margin of Safety

The proposed change[s] [allow] a delay time for entering a supported system TS when the inoperability is due solely to an inoperable snubber, if risk is assessed and managed. The postulated seismic event requiring snubbers is a low-probability occurrence and the overall TS system safety function would still be available for the vast majority of anticipated challenges. The risk impact of the proposed TS changes was assessed following the three tiered approach recommended in NRC Regulatory Guide 1.177. A bounding risk assessment was performed to justify the proposed TS changes. This application of LCO 3.0.8 is predicated upon the licensee's performance of a risk assessment and the management of plant risk. The net change to the margin of safety is insignificant. Therefore, [these] change[s] [do] not involve a significant reduction in a margin of safety.

The NRC staff proposes to determine that the amendment request involves no significant hazards consideration.

Attorney for licensee: Terence A. Burke, Associate General Counsel—Nuclear Entergy Services, Inc., 1340 Echelon Parkway, Jackson, Mississippi 39213.

NRC Branch Chief: Michael T. Markley.

FirstEnergy Nuclear Operating Company, et al., Docket No. 50-412, Beaver Valley Power Station, Unit No. 2 (BVPS-2), Beaver County, Pennsylvania

Date of amendment request: November 7, 2008.

Description of amendment request: The proposed amendment would modify the method used to calculate the available net positive suction head (NPSH) for the BVPS-2 recirculation spray (RS) pumps as described in the BVPS-2 Updated Final Safety Analysis Report (UFSAR). BVPS-2 UFSAR would take credit for containment overpressure by allowing for the difference between containment total pressure and the vapor pressure of the water in the containment sump in the available NPSH calculation.

Basis for proposed no significant hazards consideration determination: As required by 10 CFR 50.91(a), the licensee has provided its analysis of the issue of no significant hazards consideration, which is presented below:

1. Does the proposed amendment involve a significant increase in the probability or consequences of an accident previously evaluated?

Response: No.

The change to the method used to calculate available NPSH for the RS pumps will not affect the probability of an accident because the RS pumps are not used during normal plant operations and cannot initiate an accident.

Successful operation of at least one train of RS pumps is required in order to demonstrate that containment and fuel cladding design basis limits are not exceeded. The design basis accident currently assumes a breach of the reactor coolant pressure boundary. There is no impact to the fuel cladding since the proposed change does not affect performance of the emergency core cooling systems. Successful operation of the RS pumps depends on adequate NPSH being available to support RS pump performance. The change in the methodology will result in an increase of the NPSH available to the RS pumps as calculated in the safety analysis. This will increase the calculated NPSH margin because the required NPSH to the RS pumps will not change due to the methodology change. Because the available NPSH remains adequate, with margin to NPSH requirements, acceptable RS pump performance will be assured and the design basis limits for containment pressure and fuel cladding will not be exceeded and the consequences of an accident will not be increased.

Therefore, the proposed change does not involve a significant increase in the probability or consequences of an accident previously evaluated.

2. Does the proposed amendment create the possibility of a new or different kind of accident from any accident previously evaluated?

Response: No.

The change to the method used to calculate available NPSH for the RS pumps will not create the possibility of a new accident because the operation of the plant or the RS pumps is not changed. The RS pumps are not used during normal plant operations and cannot initiate an accident. A different kind of accident will not be created because the proposed calculation method will produce an NPSH value that will ensure proper operation of the pumps and will not result in any new failure modes of the RS pumps.

Therefore, the proposed amendment will not create the possibility of a new or different kind of accident from any accident previously evaluated.

3. Does the proposed amendment involve a significant reduction in a margin of safety?

Response: No.

The change to the method used to calculate available NPSH for the RS pumps will not involve a significant reduction in a margin of safety because the change does not reduce the NPSH margin to the RS pump required NPSH. The only controlling numerical value pertaining to available NPSH of the RS pumps that is established in the UFSAR is a lower limit specified in the UFSAR, referred to as the required NPSH for the RS pumps. The required NPSH limit will not be altered as a result of the proposed calculation method, and the required NPSH will continue to be maintained under the applicable accident scenario.

Therefore, the proposed amendment will not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Nuclear Operating Company, FirstEnergy Corporation, 76 South Main Street, Akron, OH 44308.

NRC Branch Chief: Mark G. Kowal.

Indiana Michigan Power Company (I&M), Docket Nos. 50-315 and 50-316, Donald C. Cook Nuclear Plant, Units 1 and 2, Berrien County, Michigan

Date of amendment request: September 25, 2008.

Description of amendment request: The proposed amendment would modify Technical Specifications, Figures 4.3-1 and 4.3-2, which show allowable locations for nuclear fuel in the spent fuel pool storage racks. The figures currently show two different allowable storage patterns for four of the storage rack modules. I&M proposes to modify these two figures such that fuel may be located in any of these four individual modules in accordance with either figure to allow continued placement of new and intermediate burn-up fuel in the spent fuel pool as the storage racks approach capacity.

Basis for proposed no significant hazards consideration determination: As required by 10 CFR 50.91(a), the licensee provided its analysis of the issue of no significant hazards consideration. The NRC staff has performed its own analysis, which is presented below:

1. Does the proposed change involve a significant increase in the probability of occurrence or consequences of an accident previously evaluated?

Response: No.

The accidents and events of concern involving fuel located in the spent fuel pool storage racks are a criticality accident, a fuel handling accident, and inadequate decay heat removal. The proposed change will not increase the probability of a criticality accident because analyses demonstrate that sub-criticality will be maintained for the fuel storage considerations allowed by the change. The proposed change will not increase the probability of a fuel handling accident because it does not affect the manner in which fuel is moved or handled. The proposed change will decrease the number of fuel moves needed for upcoming refueling outages. The proposed change will not increase the probability of inadequate decay heat removal because thermal-hydraulic analyses demonstrate adequate heat removal will remain valid for the storage configurations allowed by the change. Therefore, the probability of occurrence of a previously evaluated accident will not be significantly increased.

The proposed change does not adversely affect the ability to perform the intended safety functions of any structure, system, or component (SSC) credited for mitigating a criticality accident, a fuel handling accident, or inadequate decay heat removal. Therefore, the consequences of a previously evaluated accident will not be significantly increased.

Therefore, the proposed amendment does not involve a significant increase in the probability or consequences of an accident previously evaluated.

2. Does the proposed change create the possibility of a new or different kind of accident from any accident previously evaluated?

Response: No.

The proposed change does not alter the design function or operation of any SSC. The proposed change does not affect the capability of the SSCs involved with the storage of fuel in the spent fuel pool to perform their function. As a result, no new failure mechanisms, malfunctions, or accident initiators are created. Therefore, the proposed change does not create the possibility of a new or different kind of accident from any previously evaluated.

3. Does the proposed change involve a significant reduction in a margin of safety?

Response: No.

The margins of safety involved with the storage of fuel in the spent fuel pool are the margins associated with criticality, mitigation of a fuel handling accident, and assurance of adequate decay heat removal. The proposed amendment involves no change in the capability of any SSC that maintains these margins. Therefore, there is no significant reduction in a margin of safety as a result of the proposed amendment.

The Nuclear Regulatory Commission (NRC) staff has reviewed the licensee's analysis and, based on its own analysis, it appears that the three standards of 10 CFR 50.92(c) are satisfied. Therefore, the NRC staff proposes to determine that the proposed amendment involves no significant hazards consideration.

Attorney for licensee: James M. Petro, Jr., Senior Nuclear Counsel, One Cook Place, Bridgman, MI 49106.

NRC Branch Chief: Lois M. James.

Indiana Michigan Power Company (I&M), Docket Nos. 50-315 and 50-316, Donald C. Cook Nuclear Plant, Units 1 and 2, Berrien County, Michigan

Date of amendment request: October 21, 2008.

Description of amendment request: The proposed amendment would modify Technical Specification 5.6.3, “Radioactive Effluent Release Report,” by changing the required annual submittal date for the report from “within 90 days of January 1” (i.e., prior to April 1), to prior to May 1. The change is consistent with the requirements for the Radioactive Effluent Release Report submittal date identified in Technical Specification Task Force Traveler Number 152 (TSTF-152), “Revise Reporting Requirements to be Consistent with 10 CFR 20,” approved by the U.S. Nuclear Regulatory Commission (NRC) in March 1997.

Basis for proposed no significant hazards consideration determination: As required by 10 CFR 50.91(a), the licensee provided its analysis of the issue of no significant hazards consideration. The NRC staff has performed its own analysis, which is presented below:

1. Does the proposed change involve a significant increase in the probability of occurrence or consequences of an accident previously evaluated?

Response: No.

The proposed change is administrative in nature. The date of the submittal of the Radioactive Effluent Release Report is not an initiator of any analyzed event. Similarly, the date of submission does not affect the consequences of any accident previously evaluated. The proposed change does not physically alter the plant or affect plant operation.

Therefore, the proposed changes do not involve a significant increase in the probability or consequences of an accident previously evaluated.

2. Does the proposed change create the possibility of a new or different kind of accident from any accident previously evaluated?

Response: No.

The proposed change is administrative in nature. It revises the date by which the Radioactive Effluent Release Report is required to be submitted to the NRDC. Revision of the submittal date of the report does not affect any accident initiator or cause any new accident precursors to be created. The proposed change does not affect the types or amounts of radioactive effluents released or cumulative occupational radiological exposures.

Therefore, the proposed change does not create the possibility of a new or different kind of accident from any previously evaluated.

3. Does the proposed change involve a significant reduction in a margin of safety?

Response: No.

The proposed change is administrative in nature and does not involve a significant reduction in a margin of safety. There are no margins of safety associated with the submittal date for the Radioactive Effluent Release Report.

Therefore, the proposed change does not involve a significant reduction in a margin of safety.

The Nuclear Regulatory Commission (NRC) staff has reviewed the licensee's analysis and, based on its own analysis, it appears that the three standards of 10 CFR 50.92(c) are satisfied. Therefore, the NRC staff proposes to determine that the proposed amendment involves no significant hazards consideration.

Attorney for licensee: James M. Petro, Jr., Senior Nuclear Counsel, One Cook Place, Bridgman, MI 49106.

NRC Branch Chief: Lois M. James.

Indiana Michigan Power Company (I&M), Docket No. 50-316, Donald C. Cook Nuclear Plant, Unit 2, Berrien County, Michigan

Date of amendment request: October 9, 2008.

Description of amendment request: The proposed amendment would support a proposed change to the inservice inspection program that is based on topical report WCAP-16168-NP-A, Revision 2, “Risk-Informed Extension of the Reactor Vessel Inservice Inspection Interval.” The U.S. Nuclear Regulatory Commission (NRC) safety evaluation approving the topical report requires licensees to amend their licenses to require that the information and analyses requested in Section (e) of the final 10 CFR 50.61a (or the proposed 10 CFR 50.61a, given in 72 FR 56275 prior to issuance of the final 10 CFR 50.61a) be submitted for NRC staff review and approval within 1 year of completing the required reactor vessel weld inspection. I&M proposes to add a new license condition to provide this information.

Basis for proposed no significant hazards consideration determination: As required by 10 CFR 50.91(a), the licensee has provided its analysis of the issue of no significant hazards consideration, which is presented below:

1. Does the proposed change involve a significant increase in the probability or consequences of an accident previously evaluated?

Response: No.

The proposed change will revise the license to require the submission of information and analyses to the Nuclear Regulatory Commission (NRC) following completion of each American Society of Mechanical Engineers (ASME) Code, Section XI, Category B-A and B-D Reactor Vessel weld inspection. Submittal of the information and analyses can have no effect on the consequences of an accident or the probability of an accident because the submission of information is not related to the operation of the plant or any equipment, the programs and procedures used to operate the plant, or the evaluation of accidents.

Therefore, the proposed change does not involve a significant increase in the probability or consequences of an accident previously evaluated.

2. Does the proposed change create the possibility of a new or different kind of accident from any accident previously evaluated?

Response: No.

The proposed change will only affect the requirement to submit information and analyses when specified inspections are performed. There are no changes to plant equipment, operating characteristics or conditions, programs or failures. There are no new accident initiators or precursors.

Therefore, the proposed change does not create the possibility of a new or different kind of accident from any accident previously evaluated.

3. Does the proposed change involve a significant reduction in a margin of safety?

Response: No.

The proposed change will revise the license to require the submission of information and analyses to the NRC following completion of each ASME Code, Section XI, Category B-A and B-D Reactor Vessel weld inspection which does not affect any Limiting Conditions for Operation used to establish the margin of safety. The requirement to submit information and analyses is an administrative tool to assure the NRC has the ability to independently review information developed by the licensee.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: James M. Petro, Jr., Senior Nuclear Counsel, Indiana Michigan Power Company, One Cook Place, Bridgman, MI 49106.

NRC Branch Chief: Lois M. James.

R.E. Ginna Nuclear Power Plant, LLC, Docket No. 50-244, R.E. Ginna Nuclear Power Plant, Wayne County, New York

Date of amendment request: October 7, 2008.

Description of amendment request: The proposed amendment would insert a requirement into the operating license of the Ginna Nuclear Power Plant involving the reporting of specified reactor vessel (RV) inservice inspection (ISI) information and analyses as specified in Federal Register Notice (72 FR 56275), dated October 3, 2007, “Alternative Fracture Toughness Requirements for Protection Against Pressurized Thermal Shock Events.” This amendment is a required part of a code relief request, submitted by the licensee on October 3, 2008, to extend the RV ISI 10-year inspection interval.

Basis for proposed no significant hazards consideration determination: As required by 10 CFR 50.91(a), the licensee has provided its analysis of the issue of no significant hazards consideration, which is presented below:

1. Operation of the facility in accordance with the proposed amendment would not involve a significant increase in the probability or consequences of an accident previously evaluated.

The proposed change, which adds a requirement within the Ginna license, to provide required information and analyses as a supporting condition for extending the allowed reactor vessel ISI interval, only involves the commitment to provide data obtained from the reactor vessel ISI. This proposed change involves only the submittal of generated data that will be used to verify the reactor vessel has more than sufficient margin to prevent any pressurized thermal shock event from occurring. This proposed change does not involve any change to the design basis of the plant or of any structure, system, or component. Therefore, the proposed change does not involve a significant increase in the probability or consequence of an accident previously evaluated.

2. Operation of the facility in accordance with the proposed amendment would not create the possibility of a new or different kind of accident from any accident previously evaluated.

The proposed change, which adds a requirement within the Ginna license to provide required information and analyses as a supporting condition for extending the reactor vessel ISI interval, only involves the commitment to provide data and analyses obtained from the reactor vessel ISI. As such this proposed change does not result in physical alteration to the plant configuration or make any change to plant operation. As a result no new accident scenarios, failure mechanisms, or single-failures are introduced. Therefore, the proposed change does not create the possibility of a new or different kind of accident from any accident previously evaluated.

3. Operation of the facility in accordance with the proposed amendment would not involve a significant reduction in a margin of safety.

The proposed change, which adds a requirement within the Ginna license, to provide required information and analyses as a supporting condition for extending the allowed reactor vessel ISI interval, only involves the commitment to provide data and analyses obtained from the reactor vessel ISI. The submitted data will be used to verify the condition of the reactor vessel meets all required standards to ensure a sufficient safety margin is maintained against the occurrence of a pressurized thermal shock event during the expanded time interval between reactor vessel ISIs. The proposed change is administrative in nature and is not related to any margin to safety. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Carey Fleming, Sr. Counsel—Nuclear Generation, Constellation Group, LLC, 750 East Pratt Street, 17 Floor, Baltimore, MD 21202.

NRC Branch Chief: Mark G. Kowal.

Southern Nuclear Operating Company, Inc., Docket Nos. 50-348 and 50-364, Joseph M. Farley Nuclear Plant, Units 1 and 2, Houston County, Alabama

Date of amendment request: October 8, 2008.

Description of amendment request: The proposed amendments would revise Technical Specifications (TS) by the adoption of Technical Specification Task Force (TSTF) Standard TS Change Traveler TSTF-374, Revision 0, to modify TS by relocating references to specific American Society for Testing and Materials (ASTM) standards for fuel oil testing to licensee-controlled documents and adding alternate criteria to the “clear and bright” acceptance test for new fuel oil. The proposed change was described in the Notice of Availability published in the Federal Register on April 21, 2006 (71 FR 20735).

Basis for proposed no significant hazards consideration determination: As required by 10 CFR 50.91(a), the licensee has provided its analysis of the issue of no significant hazards consideration (NSHC) by incorporating by reference the proposed NSHC determination (NSHCD) presented in the Federal Register notice on February 22, 2006 (71 FR 9179), which is presented below:

1. Does the proposed change involve a significant increase in the probability or consequences of any accident previously evaluated?

Response: No.

The proposed changes relocate the specific ASTM standard references from the Administrative Controls Section of TS to a licensee-controlled document. Requirements to perform testing in accordance with applicable ASTM standards are retained in the TS as are requirements to perform surveillances of both new and stored diesel fuel oil. Future changes to the licensee-controlled document will be evaluated pursuant to the requirements of 10 CFR 50.59, “Changes, tests and experiments,” to ensure that such changes do not result in more than a minimal increase in the probability or consequences of an accident previously evaluated. In addition, the “clear and bright” test used to establish the acceptability of new fuel oil for use prior to addition to storage tanks has been expanded to recognize more rigorous testing of water and sediment content. Relocating the specific ASTM standard references from the TS to a licensee-controlled document and allowing a water and sediment content test to be performed to establish the acceptability of new fuel oil will not affect nor degrade the ability of the emergency diesel generators (DGs) to perform their specified safety function. Fuel oil quality will continue to meet ASTM requirements.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed change create the possibility of a new or different kind of accident from any accident previously evaluated?

Response: No.

The proposed changes relocate the specific ASTM standard references from the Administrative Controls Section of TS to a licensee-controlled document. In addition, the “clear and bright” test used to establish the acceptability of new fuel oil for use prior to addition to storage tanks has been expanded to allow a water and sediment content test to be performed to establish the acceptability of new fuel oil. The changes do not involve a physical alteration of the plant (i.e., no new or different type of equipment will be installed) or a change in the methods governing normal plant operation. The requirements retained in the TS continue to require testing of the diesel fuel oil to ensure the proper functioning of the DGs.

Therefore, the changes do not create the possibility of a new or different kind of accident from any accident previously evaluated.

3. Does the proposed change involve a significant reduction in a margin of safety?

Response: No.

The proposed changes relocate the specific ASTM standard references from the Administrative Controls Section of TS to a licensee-controlled document. Instituting the proposed changes will continue to ensure the use of applicable ASTM standards to evaluate the quality of both new and stored fuel oil designated for use in the emergency DGs. Changes to the licensee-controlled document are performed in accordance with the provisions of 10 CFR 50.59. This approach provides an effective level of regulatory control and ensures that diesel fuel oil testing is conducted such that there is no significant reduction in a margin of safety.

The “clear and bright” test used to establish the acceptability of new fuel oil for use prior to addition to storage tanks has been expanded to allow a water and sediment content test to be performed to establish the acceptability of new fuel oil. The margin of safety provided by the DGs is unaffected by the proposed changes since there continue to be TS requirements to ensure fuel oil is of the appropriate quality for emergency DG use. The proposed changes provide the flexibility needed to improve fuel oil sampling and analysis methodologies while maintaining sufficient controls to preserve the current margins of safety.

The NRC staff has reviewed the licensee's analysis and, based on this review, it appears that the three standards of 10 CFR 50.92(c) are satisfied. Therefore, the NRC staff proposes to determine that the amendment request involves no significant hazards consideration.

Attorney for licensee: M. Stanford Blanton, Esq., Balch and Bingham, Post Office Box 306, 1710 Sixth Avenue North, Birmingham, Alabama 35201.

NRC Branch Chief: Melanie Wong.

Virginia Electric and Power Company, Docket No. 50-280, Surry Power Station, Unit No. 1, Surry County, Virginia

Date of amendment request: October 14, 2008.

Description of amendment request: The proposed change includes a one-cycle revision to the Surry Power Station, Unit No. 1 (Surry 1) technical specifications (TSs). Specifically, TS 6.4.Q, “Steam Generator (SG) Program,” and TS 6.6.A.3, “Steam Generator Tube Inspection Report,” will be revised to incorporate an interim alternate repair criterion into the provisions for SG tube repair for use during the Surry 1 2009 spring refueling outage and the subsequent operating cycle.

Basis for proposed no significant hazards consideration determination: As required by 10 CFR 50.91(a), the licensee has provided its analysis of the issue of no significant hazards consideration, which is presented below:

1. Does the proposed change involve a significant increase in the probability or consequences of an accident previously evaluated?

Response: No.

Of the various accidents previously evaluated, the proposed changes only affect the steam generator tube rupture (SGTR) event evaluation and the postulated steam line break (SLB), and locked rotor evaluations. Loss-of-coolant accident (LOCA) conditions cause a compressive axial load to act on the tube. Therefore, since the LOCA tends to force the tube into the tubesheet rather than pull it out, it is not a factor in this amendment request.

Another faulted load consideration is a safe shutdown earthquake (SSE); however, the seismic analysis of Model F steam generators has shown that axial loading of the tubes is negligible during an SSE. At normal operating pressures, leakage from primary water stress corrosion cracking (PWSCC) below 17 inches from the TTS [top of the tubesheet] is limited by both the tube-to-tubesheet crevice and the limited crack opening, permitted by the tubesheet constraint. Consequently, negligible normal operating leakage is expected from cracks within the tubesheet region.

For the SGTR event, the required structural margins of the steam generator tubes is maintained by limiting the allowable ligament size for a circumferential crack to remain in service to 203 degrees below 17 inches from the TTS for the subsequent operating cycle. Tube rupture is precluded for cracks in the hydraulic expansion region due to the constraint provided by the tubesheet. The potential for tube pullout is mitigated by limiting the allowable crack size to 203 degrees for the subsequent operating cycle. These allowable crack sizes take into account eddy current uncertainty and crack growth rate. It has been shown that a circumferential crack with an azimuthal extent of 203 degrees for the 18 month SG tubing eddy current inspection interval meet the performance criteria of NEI 97-06, Rev. 2, “Steam Generator Program Guidelines” and Regulatory Guide (RG) 1.121, “Bases for Plugging Degraded PWR Steam Generator Tubes.” Therefore, the margin against tube burst/pullout is maintained during normal and postulated accident conditions and the proposed change does not result in a significant increase in the probability or consequence of a SGTR.

The probability of a SLB is unaffected by the potential failure of a SG tube as the failure of a tube is not an initiator for a SLB event. SLB leakage is limited by leakage flow restrictions resulting from the leakage path above potential cracks through the tube-to-tubesheet crevice. The leak rate during postulated accident conditions (including locked rotor) has been shown to remain within the accident analysis assumptions for all axial or circumferentially oriented cracks occurring 17 inches below the top of the tubesheet. Since normal operating leakage is limited to 150 gpd [gallons per day], the attendant accident condition leak rate, assuming all leakage to be from indications below 17 inches from the top of the tubesheet, would be bounded by 470 gpd. This value is within the accident analysis assumptions for the limiting design basis accident for Surry, which is the postulated SLB event.

Based on the above, the performance criteria of NEI-97-06, Rev. 2 and Regulatory Guide (RG) 1.121 continue to be met and the proposed change does not involve a significant increase in the probability or consequences of an accident previously evaluated.

2. Does the proposed change create the possibility of a new or different accident from any accident previously evaluated?

Response: No.

The proposed change does not introduce any changes or mechanisms that create the possibility of a new or different kind of accident. Tube bundle integrity is expected to be maintained for all plant conditions upon implementation of the interim alternate repair criteria. The proposed change does not introduce any new equipment or any change to existing equipment. No new effects on existing equipment are created nor are any new malfunctions introduced.

Therefore, based on the above evaluation, the proposed changes do not create the possibility of a new or different kind of accident from any accident previously evaluated.

3. Does the proposed change involve a significant reduction in a margin of safety?

Response: No.

The proposed change maintains the required structural margins of the steam generator tubes for both normal and accident conditions. NEI 97-06, Rev. 2 and RG 1.121 are used as the basis in the development of the limited tubesheet inspection depth methodology for determining that steam generator tube integrity considerations are maintained within acceptable limits. RG 1.121 describes a method acceptable to the NRC staff for meeting GDC 14, 15, 31, and 32 by reducing the probability and consequences of an SGTR. RG 1.121 concludes that by determining the limiting safe conditions of tube wall degradation beyond which tubes with unacceptable cracking, as established by inservice inspection, should be removed from service or repaired, the probability and consequences of a SGTR are reduced. This RG uses safety factors on loads for tube burst that are consistent with the requirements of Section III of the ASME Code.

For axially oriented cracking located within the tubesheet, tube burst is precluded due to the presence of the tubesheet. For circumferentially oriented cracking in a tube or the tube-to-tubesheet weld, References 2 and 4 [of the application] define a length of remaining tube ligament that provides the necessary resistance to tube pullout due to the pressure induced forces (with applicable safety factors applied). Additionally, it is shown that application of the limited tubesheet inspection depth criteria will not result in unacceptable primary-to-secondary leakage during all plant conditions.

Based on the above, it is concluded that the proposed changes do not result in any reduction of margin with respect to plant safety as defined in the Updated Final Safety Analysis Report or bases of the plant Technical Specifications.

The Nuclear Regulatory Commission (NRC) staff has reviewed the licensee's analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., 120 Tredegar Street, RS-2, Richmond, VA 23219.

NRC Branch Chief: Melanie C. Wong.

Virginia Electric and Power Company, Docket Nos. 50-280 and 50-281, Surry Power Station, Unit Nos. 1 and 2, Surry County, Virginia

Date of amendment request: October 9, 2008.

Description of amendment request: The proposed change revises the technical specifications (TSs) for consistency with the assumptions of the current Alternate Source Term dose analysis of record, performed in accordance with Title 10 of the Code of Federal Regulations (10 CFR), Section 50.67, and the results of non-pressurized main control room/emergency switchgear room (MCR/ESGR) envelope boundary tracer gas testing. The proposed change removes the MCR Bottled Air System requirements from the TSs.

Basis for proposed no significant hazards consideration determination: As required by 10 CFR 50.91(a), the licensee has provided its analysis of the issue of no significant hazards consideration, which is presented below:

1. Does the proposed license amendment involve a significant increase in the probability or consequences of an accident previously evaluated?

Response: No.

The proposed change does not adversely affect accident initiators or precursors nor alter the design assumptions, conditions, or configuration of the facility. The proposed change does not alter or prevent the ability of structures, systems, and components (SSCs) to perform their intended function to mitigate the consequences of an initiating event within the assumed acceptance limits. The MCR Bottled Air System is not an initiator or precursor to any accident previously evaluated, and is not credited as a success path for dose mitigation in the event of a DBA [design-basis accident]. MCR/ESGR envelope isolation and emergency ventilation continue to be available consistent with accident analyses assumptions. Therefore, the proposed TS change does not involve a significant increase in the probability or consequences of an accident previously evaluated.

2. Does the proposed license amendment create the possibility of a new or different kind of accident from any accident previously evaluated?

Response: No.

The proposed change does not alter the requirements for MCR/ESGR envelope isolation or the MCR/ESGR Emergency Ventilation System during accident conditions. No physical modifications to the plant are being made (i.e., no new or different type of equipment will be installed), and no significant changes in the methods governing normal plant operation are being implemented. Also, the proposed change does not alter assumptions made in the safety analysis and is consistent with those assumptions. Therefore, the proposed TS change does not create the possibility of a new or different kind of accident from any accident previously evaluated.

3. Does the proposed amendment involve a significant reduction in a margin of safety?

Response: No.

The proposed TS change does not alter the manner in which safety limits, limiting safety system settings or limiting conditions for operation are determined, and the dose analysis acceptance criteria are not affected. The proposed change does not result in plant operation in a configuration outside the analyses or design basis and does not adversely affect systems that respond to safely shut down the plant and to maintain the plant in a safe shutdown condition. Therefore, the proposed TS change does not involve a significant reduction in a margin of safety.

The Nuclear Regulatory Commission (NRC) staff has reviewed the licensee's analysis and, based on this review, it appears that the three standards of 10 CFR 50.92(c) are satisfied. Therefore, the NRC staff proposes to determine that the amendment request involves no significant hazards consideration.

Attorney for licensee: Lillian M. Cuoco, Esq., Senior Counsel, Dominion Resources Services, Inc., 120 Tredegar Street, RS-2, Richmond, VA 23219.

NRC Branch Chief: Melanie C. Wong.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Dominion Energy Kewaunee, Inc., Docket No. 50-305, Kewaunee Power Station, Kewaunee County, Wisconsin

Date of application for amendment: November 9, 2007, as supplemented by letter dated June 2, 2008.

Brief description of amendment: The amendment revised the Technical Specifications by relocating the requirement of Specification 3.8.a.7 to the licensee-controlled Technical Requirements Manual. Specification 3.8.a.7 specified that heavy loads greater than the weight of a fuel assembly will not be transported over or placed in either spent fuel pool when spent fuel is stored in that pool.

Date of issuance: November 20, 2008.

Effective date: As of the date of issuance and shall be implemented within 60 days.

Amendment No.: 200.

Facility Operating License No. DPR-43: Amendment revised the Facility Operating License and Technical Specifications.

Date of initial notice in Federal Register: December 18, 2007 (72 FR 71706).

The supplemental letter contained clarifying information, did not change the initial no significant hazards consideration determination, and did not expand the scope of the original Federal Register notice.

The Commission's related evaluation of the amendment is contained in a Safety Evaluation dated November 20, 2008.

No significant hazards consideration comments received: No.

Entergy Nuclear Operations, Inc., Docket No. 50-255, Palisades Plant, Van Buren County, Michigan

Date of application for amendment: May 5, 2008.

Brief description of amendment: The amendment would revise renewed facility operating license DPR-20 to remove license condition 2.F. The license condition describes reporting requirements for exceeding the facility steady-state reactor core power level described in license condition 2.C.(1). The proposed change is consistent with the NRC approved change notice published in the Federal Register on November 4, 2005 (70 FR 67202), announcing the availability of this improvement through the consolidated line item improvement process (CLIIP).

Date of issuance: November 20, 2008.

Effective date: As of the date of issuance and shall be implemented within 90 days.

Amendment No.: 233.

Facility Operating License No. DPR-20: Amendment revised the Technical Specifications.

Date of initial notice in Federal Register: September 9, 2008 (73 FR 52417).

The Commission's related evaluation of the amendment is contained in a Safety Evaluation dated November 20, 2008.

No significant hazards consideration comments received: No.

FirstEnergy Nuclear Operating Company, et al., Docket No. 50-346, Davis-Besse Nuclear Power Station (DBNPS), Unit No. 1, Ottawa County, Ohio

Date of application for amendment: August 3, 2007 (Agencywide Documents Access and Management System (ADAMS) Accession No. ML072200448), as supplemented by letters dated May 16, 2008 (2 letters) (ADAMS Accession Nos. ML081480464 and ML081430105), July 23, 2008 (ADAMS Accession No. ML082070079), August 7, 2008 (ADAMS Accession No. ML082270658), August 26, 2008 (ADAMS Accession No. ML082600594), and September 3, 2008 (ADAMS Accession No. ML082490154).

Brief description of amendment: This amendment converts the current technical specifications (CTSs) to the improved TSs (ITSs) and relocates certain requirements to other licensee-controlled documents. The ITSs are based on NUREG-1430, “Standard Technical Specifications (STS) Babcock and Wilcox Plants,” Revision 3.0; “NRC Final Policy Statement on Technical Specification Improvements for Nuclear Power Reactors,” dated July 22, 1993 (58 FR 39132); and 10 CFR 50.36, “Technical Specifications.” Technical Specification Task Force changes were also incorporated. The purpose of the conversion is to provide clearer and more readily understandable requirements in the TSs for DBNPS to ensure safe operation. In addition, the amendment includes a number of issues that were considered beyond the scope of NUREG-1430.

Date of issuance: November 20, 2008.

Effective date: As of the date of issuance and shall be implemented within 180 days.

Amendment No.: 279.

Facility Operating License No. NPF-3: Amendment revised the Technical Specifications and License.

Date of initial notice in Federal Register: May 22, 2008 (73 FR 29787-29791).

The supplements provided contained clarifying information and did not expand the scope of the application as originally noticed.

The Commission's related evaluation of the amendment is contained in a Safety Evaluation dated November 20, 2008.

No significant hazards consideration comments received: No.

Florida Power and Light Company, Docket No. 50-335, St. Lucie Plant, Unit No. 1, St. Lucie County, Florida

Date of application for amendment: July 16, 2007, as supplemented by letters dated February 14, March 18, April 14, June 2, July 11, and August 13, 2008.

Brief description of amendment: Amendment revised the facility's operating bases to adopt the alternative source term as allowed in 10 CFR 50.67 and described in Regulatory Guide RG 1.183.

Date of issuance: November 26, 2008.

Effective date: Effective as of the date of issuance and shall be implemented within 9 months.

Amendment No.: 206.

Renewed Facility Operating License No. DPR-67: Amendment revised the Technical Specifications.

Date of initial notice in Federal Register: August 28, 2007 (72 FR 49578). The supplements dated February 14, March 18, April 14, June 2, July 11, and August 13, 2008, provided additional information that clarified the application, did not expand the scope of the application as originally noticed, and did not change the staff's original proposed no significant hazards consideration determination as published in the Federal Register.

The Commission's related evaluation of the amendment is contained in a Safety Evaluation dated November 26, 2008.

No significant hazards consideration comments received: No.

Nine Mile Point Nuclear Station, LLC, Docket No. 50-410, Nine Mile Point Nuclear Station, Unit No. 2 (NMP2), Oswego County, New York

Date of application for amendment: July 30, 2007, as supplemented on April 7 and September 8, 2008.

Brief description of amendment: The amendment revises Technical Specification (TS) 3.7.3, “Control Room Envelope Air Conditioning (AC) System,” by adding an Action statement to the Limiting Condition for Operation. Specifically, the new Action statement allows 72 hours to restore one control room AC subsystem to operable status and requires verification that the control room temperature remains below 90 degrees Fahrenheit every 4 hours during the period of inoperability. This amendment adopts Nuclear Regulatory Commission-approved TS Task Force (TSTF)-477, Revision 3, “Add Action Statement for Two Inoperable Control Room Air Conditioning Subsystems.”

Date of issuance: November 24, 2008.

Effective date: As of the date of issuance to be implemented within 60 days.

Amendment No.: 128.

Renewed Facility Operating License No. NPF-069: Amendment revises the License and TSs.

Date of initial notice in Federal Register: September 27, 2007 (72 FR 54477), as revised on September 24, 2008 (73 FR 55166). The supplemental letters dated April 7 and September 8, 2008, provided additional information that clarified the application and did not expand the scope of the application as originally noticed. The September 8, 2008, letter provided administrative changes to the proposed TSs and a supplemental No Significant Hazards Consideration determination as reflected in 73 FR 55166.

The Commission's related evaluation of the amendment is contained in a Safety Evaluation dated November 24, 2008.

No significant hazards consideration comments received: No

Nuclear Management Company, LLC, Docket No. 50-263, Monticello Nuclear Generating Plant, Wright County, Minnesota

Date of application for amendment: April 22, 2008.

Brief description of amendment: The amendment revised (1) the control rod notch surveillance frequency in Section 3.1.3, “Control Rod Operability,” and (2) one example in Section 1.4, “Frequency,” to clarify the applicability of the 1.25 surveillance test interval extension. These changes were done pursuant to the previously approved Technical Specification Task Force (TSTF) change traveler TSTF-475, “Control Rod Notch Testing Frequency and SRM [Source Range Monitor] Insert Control Rod Action,” Revision 1.

Date of issuance: November 19, 2008.

Effective date: As of the date of issuance and shall be implemented within 90 days.

Amendment No.: 158.

Facility Operating License No. DPR-22: Amendment revised the Technical Specifications.

Date of initial notice in Federal Register: September 9, 2008 (73 FR 52419).

The Commission's related evaluation of the amendment is contained in a Safety Evaluation dated November 19, 2008.

No significant hazards consideration comments received: No.

Southern California Edison Company, et al., Docket Nos. 50-361 and 50-362, San Onofre Nuclear Generating Station, Units 2 and 3, San Diego County, California

Date of amendment request: November 30, 2007, as supplemented by letters dated June 5 and November 14, 2008.

Brief description of amendment: The proposed TS changes will provide operational flexibility supported by DC electrical subsystem design upgrades that are in progress. These upgrades will provide increased capacity batteries, additional battery chargers, and the means to cross-connect DC subsystems while meeting all design battery loading requirements. With these modifications in place, it will be feasible to perform routine surveillances as well as battery replacements online.

Date of issuance: November 28, 2008.

Effective date: As of the date of issuance and shall be implemented 120 days from the date of issuance.

Amendment Nos.: Unit 2—218; Unit 3—211.

Facility Operating License Nos. NPF-10 and NPF-15: The amendments revised the Facility Operating Licenses and Technical Specifications.

Date of initial notice in Federal Register: May 6, 2008 (73 FR 25045). The supplement dated June 5 and November 14, 2008, provided additional information that clarified the application, did not expand the scope of the application as originally noticed, and did not change the staff's original proposed no significant hazards consideration determination as published in the Federal Register. The Commission's related evaluation of the amendment is contained in a Safety Evaluation dated November 28, 2008.

No significant hazards consideration comments received: No.

Southern Nuclear Operating Company, Inc., Docket Nos. 50-424 and 50-425, Vogtle Electric Generating Plant, Units 1 and 2, Burke County, Georgia

Date of application for amendments: February 29, 2008.

Brief description of amendments: The proposed changes would modify the Appendix A TS and the Appendix D Additional Conditions requirements related to control room emergency ventilation systems to establish more effective and appropriate actions to ensure the habitability of the control room envelope. The change is based on Technical Specification Task Force (TSTF) traveler, TSTF-448, Revision 3. The licensee proposed revising action and surveillance requirements in TS 3.7.10, “Control Room Emergency Filtration System (CREFS)—Both Units Operating,” TS 3.7.11, “Control Room Emergency Filtration System (CREFS)—One Unit Operating,” TS 3.7.12, “Control Room Emergency Filtration System (CREFS)—Both Units Shutdown,” and adding a new administrative controls program in TS Section 5.5, “Programs and Manuals.” An Additional Condition is also added regarding the schedule for performance of the surveillance requirements. The purpose of the changes is to ensure that CRE boundary operability is maintained and verified through effective surveillance and programmatic requirements, and that appropriate remedial actions are taken in the event of an inoperable CRE boundary.

Date of issuance: November 25, 2008.

Effective date: As of the date of issuance and shall be implemented within 90 days from the date of issuance.

Amendment Nos.: Unit 1: 154, Unit 2: 135.

Facility Operating License Nos. NPF-68 and NPF-81: Amendments revised the licenses, the technical specifications and the additional conditions.

Date of initial notice in Federal Register: March 25, 2008 (73 FR 15787).

The Commission's related evaluation of the amendments is contained in a Safety Evaluation dated November 25, 2008.

No significant hazards consideration comments received: No

Union Electric Company, Docket No. 50-483, Callaway Plant, Unit 1, Callaway County, Missouri

Date of application for amendment: December 28, 2007.

Brief description of amendment: The proposed amendment revised Technical Specification (TS) Administrative Controls Section 5.5.8, “Inservice Testing Program,” to indicate that the Inservice Testing Program (IST) shall include testing frequencies applicable to the American Society of Mechanical Engineers Code for Operation and Maintenance of Nuclear Power Plants (ASME OM Code), and to indicate that there may be some nonstandard frequencies specified as 2 years or less in the IST, to which the provisions of Surveillance Requirement (SR) 3.0.2 is applicable.

The amendment also revised TS 5.5.8.a and TS 5.5.8.d to reference a more recent ASME OM Code. In addition, the amendment revised TS 5.5.8.b to allow any test frequency in the IST Program that is 2 years or less to be extended up to 25 percent in accordance with the provisions in TS SR 3.0.2.

Date of issuance: November 24, 2008.

Effective date: As of its date of issuance and shall be implemented within 90 days from the date of issuance.

Amendment No.: 187.

Facility Operating License No. NPF-30: The amendment revised the Operating License and Technical Specifications.

Date of initial notice in Federal Register: March 25, 2008 (73 FR 15789).

The Commission's related evaluation of the amendment is contained in a Safety Evaluation dated November 24, 2008.

No significant hazards consideration comments received: No.

Union Electric Company, Docket No. 50-483, Callaway Plant, Unit 1, Callaway County, Missouri

Date of application for amendment: November 29, 2007.

Brief description of amendment: The amendment revised Technical Specification (TS) 3.4.10, “Pressurizer Safety Valves,” TS 3.4.11, “Pressurizer Power Operated Relief Valves (PORVs),” and TS 3.4.12, “Cold Overpressure Mitigation System (COMS)” to adopt Nuclear Regulatory Commission (NRC)-approved TS Task Force (TSTF) travelers to the Standard Technical Specifications, TSTF-247-A and TSTF-352-A.

Date of issuance: November 25, 2008.

Effective date: As of its date of issuance and shall be implemented within 90 days from the date of issuance.

Amendment No.: 188.

Facility Operating License No. NPF-30: The amendment revised the Operating License and Technical Specifications.

Date of initial notice in Federal Register: October 22, 2008 (73 FR 63025).

The Commission's related evaluation of the amendment is contained in a Safety Evaluation dated November 25, 2008.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) The application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Tennessee Valley Authority, Docket No. 50-390, Watts Bar Nuclear Plant, Unit No. 1, Rhea County, Tennessee

Date of amendment request: November 12, 2008.

Description of amendment request: The amendment revises Technical Specification (TS) 3.4.15, “RCS [Reactor Coolant System] Leakage Detection Instrumentation.”

Date of issuance: November 25, 2008.

Effective date: As of the date of issuance, to be implemented within 5 days.

Amendment No.: 71.

Facility Operating License No. NPF-90: The amendment revises the TSs and the license.

Public comments requested as to proposed no significant hazards consideration (NSHC): Yes. Public notice of the proposed amendments was published in the The Herald-News newspaper, located in Dayton, Tennessee on November 19, 2008. The notice provided an opportunity to submit comments on the Commission's proposed NSHC determination. No comments have been received.

The Commission's related evaluation of the amendment, finding of exigent circumstances, state consultation, and final NSHC determination are contained in a safety evaluation dated November 25, 2008.

Attorney for licensee: General Counsel, Tennessee Valley Authority, 400 West Summit Hill Drive, ET 11A, Knoxville, Tennessee 37902.

NRC Branch Chief: L. Raghavan.

Dated at Rockville, Maryland, this 5th day of December 2008.
For the Nuclear Regulatory Commission.
Joseph G Giitter,
Director, Division of Operating Reactor Licensing, Office of Nuclear Reactor Regulation.

[FR Doc. E8-29450 Filed 12-15-08; 8:45 am]

BILLING CODE 7590-01-P